FEDERAL COMMUNICATIONS COMMISSION

Notice of Public Information Collection(s) Submitted to OMB for Review and Approval

September 23, 2002.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 7, 2002. If you anticipate that you will be submitting comments, but find it difficult to do so within the period of time allowed by this notice, you should advise the contact listed below as soon as possible.

ADDRESSES: Direct all comments to Les Smith, Federal Communications Commissions, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0126.

Title: Section 73.1820, Station Log.

Form Number: N/A.

Type of Review: Extension of currently approved collection.

Respondents: Business or other for-profit entities; and Not-for-profit institutions.

Number of Respondents: 15,122.

Estimated Time per Response: 0.017 hours to 0.5 hours.

Total Annual Burden: 15,326.

Total Annual Cost: None.

Needs and Uses: 47 CFR 73.1820 requires each licensee of an AM, FM, or TV broadcast station to maintain a station log. Each entry must accurately reflect the station's operation—adjustments to operating parameters for AM stations with directional antennas without an approved sampling system; the actual time of any observation of extinguishment or improper operation of tower lights for all stations; and entry of each test of the Emergency Alert System (EAS) for commercial stations. The FCC staff in field investigations will use these data to assure that the licensee is operating in accordance with the technical requirements as specified in the FCC Rules and with the station authorization, and is taking reasonable measures to preclude interference to other stations. It is also used to verify that the Emergency Alert System is operating properly.

OMB Control Number: 3060-0329.

Title: Equipment Authorization—Verification, 47 CFR Section 2.955.

Form Number: N/A.

Type of Review: Extension of a currently approved collection.

Respondents: Business or other for-profit entities.

Number of Respondents: 5,655.

Estimated Time per Response: 18 hours (avg.).

Frequency of Response: Recordkeeping; On occasion and one-time reporting requirements; Third party disclosure.

Total Annual Burden: 101,790 hours.

Total Estimated Cost: $1,131,000.

Needs and Uses: The Commission Rules, 47 CFR parts 15 and 18, require manufacturers of radio frequency (RF) equipment devices to gather and retain technical data on their equipment to verify compliance with established technical standards for each device operated under the applicable Rule part. Testing and verification aid in controlling potential interference to radio communications. The FCC will use these data, as necessary, to investigate complaints of harmful interference or to verify the manufacturer's compliance with FCC regulations.

Federal Communications Commission.
Marlene H. Dortch,
Secretary.

[FR Doc. 02-25479 Filed 10-7-02; 8:45 am]

BILLING CODE 6712-01-P